DEPARTMENT OF COMMERCE

National Oceanic and Atmospheric Administration

50 CFR Part 635

[I.D. 100702A]

Atlantic Highly Migratory Species Fisheries; Atlantic Bluefin Tuna

AGENCY: National Marine Fisheries Service (NMFS), National Oceanic and Atmospheric Administration (NOAA), Commerce.

ACTION: Quota transfers; General category daily retention limit adjustment.

SUMMARY: NMFS adjusts the October-December time-period subquota for the General category Atlantic bluefin tuna (BFT) fishery by transferring 60 metric tons (mt) from the Longline South subquota, 10 mt from the Longline North subquota, 60 mt from the Angling category large school/small medium size class subquota for the northern area, and including the quota underharvest from previous time periods, for a revised coastwide General category October - December time-period subquota of approximately 301.4 mt. NMFS has also determined that the BFT General category restricted fishing day (RFD) schedule should be adjusted to allow for maximum utilization of the General category October-December time-period subquota. Therefore, NMFS authorizes fishing under the General category quota the previously designated RFDs for the month of October, 2002. Additionally, the daily retention limit is increased to two large medium or giant BFT for the remainder of October, 2002. These actions are being taken to allow for maximum utilization of the U.S. landings quota of BFT while maintaining a fair distribution of fishing opportunities, preventing overharvest of the adjusted subquotas for the affected fishing categories, helping to achieve optimum yield in the General category fishery, and allowing the collection of a broad range of data for stock monitoring purposes, consistent with the objectives of the Fishery Management Plan for Atlantic Tunas, Swordfish, and Sharks (HMS FMP).

DATES: The quota transfers are effective October 10, 2002, through May 31, 2003. The General category retention limit adjustments are effective October 13, 2002, through October 31, 2002.

FOR FURTHER INFORMATION CONTACT: Brad McHale, 978-281-9260.

SUPPLEMENTARY INFORMATION: Regulations implemented under the authority of the Atlantic Tunas Convention Act (16 U.S.C. 971 et seq.) and the Magnuson-Stevens Fishery Conservation and Management Act (16 U.S.C. 1801 et seq.) governing the harvest of BFT by persons and vessels subject to U.S. jurisdiction are found at 50 CFR part 635. Section 635.27 subdivides the U.S. BFT quota recommended by the International Commission for the Conservation of Atlantic Tunas among the various domestic fishing categories.

Quota Adjustments

Under the implementing regulations at 50 CFR 635.27(a)(8), NMFS has the authority to transfer quotas among categories, or, as appropriate, subcategories, of the fishery, after considering the following factors: (1) The usefulness of information obtained from catches in the particular category for biological sampling and monitoring of the status of the stock; (2) the catches of the particular category quota to date and the likelihood of closure of that segment of the fishery if no allocation is made; (3) the projected ability of the vessels fishing under the particular category quota to harvest the additional amount of BFT before the end of the fishing year; (4) the estimated amounts by which quotas established for other gear segments of the fishery might be exceeded; (5) the effects of the transfer on BFT rebuilding and overfishing; and (6) the effects of the transfer on accomplishing the objectives of the HMS FMP.

If it is determined, based on the factors listed here and the probability of exceeding the total quota, that vessels fishing under any category or subcategory quota are not likely to take that quota, NMFS may transfer inseason any portion of the remaining quota of that fishing category to any other fishing category or to the Reserve quota.

Annual BFT quota specifications issued under 50 CFR 635.27 provide for a quota of 647.0 mt of large medium and giant BFT to be harvested from the regulatory area by vessels fishing under the General category quota during the 2002 fishing year. The General category BFT quota is further subdivided into time period subquotas to provide for broad temporal and geographic distribution of scientific data collection and fishing opportunities. The October-December subquota was initially set at 63.7 mt for the 2002 fishing year, and is currently 171.4 mt, after the carryover of approximately 107.7 mt of unharvested subquota from previous time periods. An additional 10 mt has been set aside for the traditional fall New York Bight fishery.

After considering the factors for making transfers between categories, NMFS has determined that 60 mt of the remaining Longline South subcategory quota of approximately 109.0 mt, and 10 mt of the remaining Longline North subcategory quota of approximately 25.4 mt should be transferred to the General category. Sufficient quota remains in the Longline category to provide for additional landings by pelagic longline vessels for the remainder of the 2002 fishing year. NMFS has also determined that 60 mt of the remaining Angling North large school/small medium subcategory quota of approximately 112.5 mt should be transferred to the General category. Given these transfers totaling 130 mt, the adjusted subquota for the coastwide General category fishery for the October-December period is 301.4 mt.

Adjustment of General Category Daily Retention Limit

NMFS previously established an effort control schedule for the 2002 BFT General category fishery that included certain RFDs (67 FR 61537, October 1, 2002 ). Under the authority of 50 CFR 635.23(a)(4), NMFS may increase or decrease the General category daily retention limit of large medium and giant BFT over a range from zero (on RFDs) to a maximum of three per vessel to allow for maximum utilization of the quota for BFT. Based on a review of dealer reports, daily landing trends, and the availability of BFT on the fishing grounds, NMFS has determined an adjustment to the RFD schedule is appropriate and necessary, and, therefore, increases the daily retention limit for certain previously designated RFDs for the month of October, 2002. An adjustment to the General category daily retention limit will allow full use of the adjusted October-December subquota, while preventing overharvest and ensuring reasonable fishing opportunities in all areas. Therefore, NMFS authorizes fishing under the General category quota for October 13, 14, 16, 30, 21, 23, 27, 28, and 30, 2002, and increases the daily retention limit to two large medium or giant BFT per vessel through October 31, 2002.

If the adjusted General category subquota for the October-December period is harvested, the coastwide fishery will be closed and NMFS will take action as necessary to release the set aside for the New York Bight fishery. Alternatively, NMFS may transfer additional quota from the Reserve or other fishing categories to allow the coastwide General category fishery to remain open. An announcement of closure, if any, will be filed with the Office of the Federal Register, stating the effective date of closure, and further communicated through the Highly Migratory Species Fax Network, the Atlantic Tunas Information Line, the www.nmfspermits.com website, NOAA weather radio, and Coast Guard Notice to Mariners. Although notification of closure will be provided as far in advance as possible, fishermen are encouraged to call the Atlantic Tunas Information Line at (888) USA-TUNA or (978) 281-9305 or access the website mentioned above, to check the status of the fishery before leaving for a fishing trip.

Classification

The Assistant Administrator for Fisheries, NOAA (AA), finds for good cause that providing prior notice and public comment for this action, as required under 5 U.S.C. 553(b)(B), is impracticable and contrary to the public interest. Without these inseason adjustments, NMFS would not be providing U.S. fishermen with a reasonable opportunity to catch the quota allocated to the United States by ICCAT. Additionally, given low catch rates to date, continued effort controls and a restrictive catch limit would not allow for maximum utilization of the General category October-December time-period subquota. As the fishery is currently underway, and fishing opportunities may be limited by weather-related factors and BFT migration, any delay in this action would be inconsistent with its objectives. For these reasons and because this action relieves a restriction (i.e., reallocates quota to avoid closure and increases daily catch limit thereby removing RFDs), the AA also finds good cause to waive the 30-day delay in effective date pursuant to 5 U.S.C. 553(d)(1) and (3). This action is authorized by 50 CFR 635.27 is exempt for review under Executive order 12866.

Authority: 16 U.S.C. 971 et seq. and 1801 et seq.

Dated: October 9, 2002.
John H. Dunigan,
Director, Office of Sustainable Fisheries, National Marine Fisheries Service.

[FR Doc. 02-26301 Filed 10-10-02; 4:23 pm]

BILLING CODE 3510-22-S